DEPARTMENT OF AGRICULTURE

Forest Service

Beaverhead-Deerlodge National Forest, Wisdom and Wise River Ranger Districts; Montana; North and West Big Hole Allotment Management Plans

AGENCY: Forest Service, USDA.

ACTION: Notice of intent to prepare an environmental impact statement.

SUMMARY: The nature of the North and West Big Hole Allotment Management Plans (NWBH AMP's) project is the updating of eleven domestic livestock grazing management plans.

The scope of the project is limited to the specific eleven domestic livestock allotments on the Beaverhead-Deerlodge National Forest Service administered lands and those under agreement with the Bureau of Land Management (BLM) and Montana Fish, Wildlife, and Parks (FWP). This project is not a general management plan for the area, nor is it a programmatic environmental analysis for domestic livestock grazing on the entire forest.

DATES: Comments concerning the scope of the analysis must be received by September 17, 2012. The draft environmental impact statement is expected March of 2013 and the final environmental impact statement is expected September of 2013.

ADDRESSES: Send written comments to Attention Laura Hudnell, Beaverhead-Deerlodge National Forest, 420 Barrett St., Dillon, MT 59725 and weekdays 7:30 a.m. to 4:30 p.m. for hand delivery. Comments may also be sent via email to comments-northern-beaverhead-deerlodge@fs.fed.us in one of the following formats: Word (.doc or .docx), rich text format (.rtf), text (.txt), and/or hypertext markup language (.html), or via facsimile to Attention Laura Hudnell, NWBH AMP's, 406-683-3886. For all forms of comment, make sure to include your name, physical address, phone number, and a subject title of NWBH AMP's.

FOR FURTHER INFORMATION CONTACT: Mr. Russell Riebe, Wisdom/Wise River District Ranger at (406) 689-3243 or via email at rriebe@fs.fed.us.

Individuals who use telecommunication devices for the deaf (TDD) may call the Federal Information Relay Service (FIRS) at 1-800-877-8339 between 8 a.m. and 8 p.m., Eastern Time, Monday through Friday.

SUPPLEMENTARY INFORMATION:

Purpose and Need for Action

This action is being undertaken to update the grazing management and infrastructure on eleven domestic livestock grazing allotments (Seymour, Fishtrap, Mudd Creek, Pintlar Creek, Mussigbrod, Ruby Creek, Dry Creek, Twin Lakes, Monument, Pioneer, and Saginaw) to comply with the applicable 2009 Beaverhead-Deerlodge Land and Resource Management Plan (Forest Plan) direction.

This action is needed because there is new direction in the Forest Plan for livestock grazing, site specific suitability, and site specific Allowable Use Levels (AUL's).

Proposed Action

The authorizing official proposes to:

—Re-issue domestic livestock grazing permits for the eleven allotments for a period of ten years.

—Reduce the authorized number of Head Months (HM's) from 8,365 to 5,666 on National Forest Service lands. This would be a thirty-two percent reduction in the authorized HM's on National Forest lands within the project area. Seven of the allotments would see a decrease and four allotments would remain at the current permitted levels.

—Increase livestock numbers on three allotments, decrease the numbers on two allotments, and keep the same numbers on six allotments.

—Reduce the Season of Use (SOU) on five allotments and keep the same SOU on six allotments.

—Change the grazing system on seven allotments and keep four the same.

—Apply the site specific AUL's to all eleven allotments.

—Add new infrastructure on five allotments. Within these five allotments structural improvements would include the addition of one mile of fencing, a quarter mile of piping, development of two springs, addition of two water tanks, one new exclosure, three hardened crossings, and the conversion of three temporary exclosures to permanent exclosures.

—Implement compliance and long term rangeland monitoring on all eleven allotments.

Possible Alternatives

1—No Action Alternative. Under this alternative domestic livestock grazing permits on National Forest Service (NFS) lands on the eleven allotments would be discontinued with a minimum of two years notice (36 CFR 222.4(a)(1)) to permittees. No new term grazing permits for domestic livestock grazing would be issued.

2—Current Grazing Management Alternative. Under this alternative new term domestic livestock grazing permits would be issued with the current management. Domestic livestock grazing would continue based on the Interim Livestock Grazing Standards (Forest Plan Ch. 3, pg. 26), the Forest Service (FS) Annual Operating Instructions (AOI), the 2012 Agreement for Coordination Management of Rangeland (ACMR) with the Bureau of Land Management (BLM), and the 2011 Cooperative Livestock Grazing Management Agreement (CLGMA) with Montana Fish, Wildlife, and Parks (FWP). There would be no changes or additions in grazing management or infrastructure.

Lead and Cooperating Agencies

The United States Department of Agriculture (USDA) Forest Service, Beaverhead-Deerlodge National Forest will be the lead agency. The BLM field offices in Dillon and Butte, Montana, and FWP office in Butte will be cooperating agencies.

Responsible Official

The Wisdom/Wise River District Ranger will be the responsible official.

Nature of Decision To Be Made

The decision to be made is whether to implement the proposed action, another alternative, or a combination of the alternatives.

Permits or Licenses Required

Grazing permits for domestic livestock grazing would be issued for ten years for each of the eleven allotments.

Scoping Process

This notice of intent initiates the scoping process, which guides the development of the environmental impact statement. A scoping letter and maps will be mailed to interested publics, Tribes, and federal, state, and local governments.

It is important that reviewers provide their comments at such times and in such a manner that they are useful to the agency's preparation of the environmental impact statement. Therefore, comments should be provided prior to the close of the comment period and should clearly articulate the reviewer's concerns and contentions.

Comments received in response to this solicitation, including names and addresses of those who comment, will be part of the public record for this proposed action. Comments submitted anonymously will be accepted and considered; however, anonymous comments will not provide the Agency with the ability to provide the responder with subsequent environmental documentation.

Dated: August 10, 2012.
Russell B. Riebe,
Wisdom/Wise River District Ranger.

[FR Doc. 2012-20209 Filed 8-16-12; 8:45 am]

BILLING CODE 3410-11-P